NATIONAL SCIENCE FOUNDATION

Advisory Committee for Cyberinfrastructure; Notice of Meeting

In accordance with the Federal Advisory Committee Act (Pub. L. 92-463, as amended), the National Science Foundation announces the following meeting:

Name: Advisory Committee for Cyberinfrastructure (25150).

Date and Time: May 15, 2013, 12:00 p.m.-5:00 p.m.; May 16, 2013, 8:30 a.m.-1:00 p.m.

Place: National Science Foundation, Room 1235, 4201 Wilson Blvd., Arlington, VA 22230.

Type of Meeting: Open.

Contact Person: Marc Rigas, Advanced Cyberinfrastructure (CISE/ACI), National Science Foundation, 4201 Wilson Blvd., Suite 1145, Arlington, VA 22230, Telephone: 703-292-8970.

Minutes: May be obtained from the contact person listed above.

Purpose of Meeting: To advise NSF on the impact of its policies, programs and activities in the ACI community. To provide advice to the National Science Foundation on issues related to long-range planning.

Agenda: Updates on NSF wide Cyberinfrastructure activities.

Dated: April 18, 2013.
Susanne Bolton,
Committee Management Officer.

[FR Doc. 2013-09576 Filed 4-23-13; 8:45 am]

BILLING CODE 7555-01-P